DEPARTMENT OF COMMERCE

National Oceanic and Atmospheric Administration

RIN 0648-XG134

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Commercial Fisheries Research Foundation and Rhode Island Department of Environmental Management contains all of the required information and warrants further consideration. This Exempted Fishing Permit would allow seven commercial fishing vessels and one party/charter vessel to collect black sea bass catch data while on routine fishing trips. Regulations under the Magnuson-Stevens Fishery Conservation and Management Act require publication of this notice to provide interested parties the opportunity to comment on applications for proposed Exempted Fishing Permits.

DATES: Comments must be received on or before April 30, 2018.

ADDRESSES: You may submit written comments by any of the following methods:

• Email to: NMFS.GAR.EFP@NOAA.gov. Include in the subject line “BSB Research Fleet EFP.”

• Mail to: Michael Pentony, Regional Administrator, NMFS, Greater Atlantic Regional Fisheries Office, 55 Great Republic Drive, Gloucester, MA 01930. Mark the outside of the envelope “Comments on BSB Research Fleet EFP.”

FOR FURTHER INFORMATION CONTACT: Laura Hansen, NOAA Affiliate, (978) 281-9225.

SUPPLEMENTARY INFORMATION: The Commercial Fisheries Research Foundation (CFRF) and Rhode Island Department of Environmental Management (RI DEM) submitted a complete application for an Exempted Fishing Permit (EFP) on March 20, 2018, to collect fishery-dependent information on black sea bass from May 1, 2018 to April 30, 2019. The EFP would authorize seven commercial fishing vessels and one party/charter vessel to collect and retain black sea bass for onboard sampling. This EFP would exempt the participating vessels from the following Federal regulations:

1. Recreational fishery closure periods specified at 50 CFR 648.146;

2. Commercial and party/charter minimum size limits for black sea bass specified at 50 CFR 648.147(a) and (b).

The research fleet consists of vessels fishing with gear types including, trawls, lobster pots, gillnets, and hook and line. All gear deployments will be typical of the routine fishing practices associated with the fishery being targeted. There will be no increase in fishing effort associated with this project.

Each vessel will be randomly selected to conduct sampling events during three trips per month in the black sea bass stock area. Up to 50 black sea bass would be temporarily held onboard to record their length and sex during each sampling event. All black sea bass collected in Federal waters will be returned to the water after being sampled. Vessels will also be issued the appropriate state exemptions to all applicable state regulations. Vessels fishing under this research permit would be exempt from the recreational closure periods and the commercial and party/charter minimum size limits for black sea bass, to allow temporary retention of both adult and undersized juvenile black sea bass.

If approved, CFRF and RI DEM may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 10, 2018.
Jennifer M. Wallace,
Acting Director, Office of Sustainable Fisheries, National Marine Fisheries Service.

[FR Doc. 2018-07742 Filed 4-12-18; 8:45 am]

BILLING CODE 3510-22-P